DEPARTMENT OF THE TREASURY

Internal Revenue Service

Privacy Act of 1974, as Amended

AGENCY: Internal Revenue Service, Treasury.

ACTION: Notice of Proposed New Privacy Act System of Records.

SUMMARY: In accordance with the requirements of the Privacy Act of 1974, as amended, 5 U.S.C. 552a, the Department of the Treasury, Internal Revenue Service, gives notice of a proposed new system of records entitled “Treasury/IRS 50.222—Tax Exempt/Government Entities (TE/GE) Case Management Records.”

DATES: Comments must be received no later than January 6, 2006. This new system of records will be effective January 17, 2006 unless the IRS receives comments which would result in a contrary determination.

ADDRESSES: Comments should be sent to the Office of Governmental Liaison and Disclosure, Internal Revenue Service, 1111 Constitution Avenue NW., Washington, DC 20224. Comments will be available for inspection and copying in the Freedom of Information Reading Room (1621), at the above address. The telephone number for the Reading Room is (202) 622-5164.

FOR FURTHER INFORMATION CONTACT: Telephonic inquiries should be directed to Marianne Davis, Program Analyst, Internal Revenue Service, TE/GE Division, at telephone number (949) 389-4304. Written inquiries should be directed to Robert Brenneman, TE/GE Reporting and Electronic Examination System (TREES) Project Manager, at Internal Revenue Service, TE/GE Business Systems Planning (SE:T:BSP), 1111 Constitution Avenue NW., Attn: PE-6M4, Washington, DC 20224.

SUPPLEMENTARY INFORMATION: The proposed system will allow the IRS to better serve the public by enhancing the ability of the Tax Exempt/Government Entities Division (TE/GE) to better manage its program responsibilities, including the allocation of resources and the assignment and review of workload. It will contain data relating to the compliance activities within the TE/GE Business Operating Division. Records covered under this system emanate from investigatory actions relating to individuals and other taxpayers involving money laundering, statutory compliance violations, and other areas of non-compliance.

This system of records will maintain information about individuals that reflect TE/GE's methods of investigating exempt organizations, retirement plans, and government entities with regard to their compliance with statutory Federal requirements and/or their tax exempt status. In addition, this system contains identifying information regarding informants who have provided information that is significant and relevant to TE/GE investigations of taxpayers.

A proposed rule to exempt this system of records from provisions of the Privacy Act pursuant to 5 U.S.C. 552a(k)(2) will be published separately in the Federal Register.

The new system of records report, as required by 5 U.S.C. 552a(r) of the Privacy Act, has been submitted to the Committee on Government Reform and Oversight of the House of Representatives, the Committee on Homeland Security and Governmental Affairs of the Senate and the Office of Management and Budget, pursuant to Appendix I to OMB Circular A-130, “Federal Agency Responsibilities for Maintaining Records About Individuals,” dated November 30, 2000.

The proposed Treasury/IRS 50.222—Tax Exempt/Government Entities (TE/GE) Case Management Records, is published in its entirety below.

Dated: November 18, 2005.
Sandra L. Pack,
Assistant Secretary for Management and Chief Financial Officer.

Treasury/IRS 50.222

System Name:

Tax Exempt/Government Entities (TE/GE) Case Management Records.

System Location:

Office of the Commissioner, Tax Exempt/Government Entities Division (TE/GE), National Office, Area Offices, Local Offices, Service Campuses, and Computing Centers. (See IRS Appendix A for addresses of IRS offices.)

Categories of Individuals Covered by the System:

Individuals who are the subject of or are connected to TE/GE examinations and tax determinations, including compliance projects, regarding Federal tax exemption requirements, employee plan requirements, and employment tax requirements.

Categories of Records in the System:

These records include case identification, assignment, and status information from TE/GE examination and tax determination files, information about individuals pertaining to TE/GE's methods of investigating exempt organizations, retirement plans, and government entities with regard to their compliance with statutory Federal requirements and/or their tax exempt status. In addition, this system contains identifying information regarding informants who have provided information that is significant and relevant to TE/GE investigations of taxpayers.

Authority For Maintenance Of The System:

5 U.S.C. 301; 26 U.S.C. 7801.

Purpose(S):

This system will provide TE/GE records for case management, including employee assignments and file tracking. TE/GE maintains records on businesses, organizations, employee plans, government entities, and Indian Tribal Government entities and individuals, such as principals and officers, connected with these entities. Records in this system are used for law enforcement investigations and may contain identifying information about informants who have provided significant information relevant to investigations of taxpayers.

Routine Uses of Records Maintained in the System Including Categories of Users and Purposes of Such Uses:

Disclosure of return and return information may be made only as provided by 26 U.S.C. 6103.

Policies and Practices for Storing, Retrieving, Accessing, Retaining and Disposing of Records in the System:

Storage:

Paper and electronic.

Retrievability:

Data is retrieved by taxpayer name, Taxpayer Identification Number (either Social Security Number or Employer Identification Number), or by IRS employee name or identification number for the employee who is assigned the case, project, or determination.

Safeguards:

Only persons authorized by law will have access to these records. Security standards will not be less than those published in IRM 2.1.10, Automated Information Systems Security Handbook, and IRM 1.16.2, Manager's Security Handbook.

Retention and Disposal:

Records are maintained in accordance with Records Management and Disposition policy, IRM 1.15. The Records Control Schedule for TE/GE is published in IRM 1.15.24, and the disposition guidance is located in 1.15.3.

System Manager(s) and Address:

Commissioner, TE/GE, 1111 Constitution Avenue NW., Washington, DC 20224.

Notification Procedure:

This system may not be accessed for purposes of determining whether the system contains a record pertaining to a particular individual. The records are exempt under 5 USC 552a(k)(2) from the notification provisions of the Privacy Act.

Records Access Procedures:

This system may not be accessed to inspect or contest the content of records. The records are exempt under 5 U.S.C. 552a(k)(2) from the access provisions of the Privacy Act.

Contesting Records Procedures:

26 U.S.C. 7852(e) prohibits Privacy Act amendment of tax records.

Records Source Categories:

Information is obtained from tax returns, application returns and supporting material, determination files, examination files, compliance review files, compliance programs and projects, and IRS personnel records.

Exemptions Claimed for the System:

This system has been designated as exempt from sections (c)(3), (d)(1)-(4), (e)(1), (e)(4)(G)-(I), and (f) of the Privacy Act, pursuant to 5 U.S.C. 552a(k)(2). (See 31 CFR 1.36.)

[FR Doc. E5-7000 Filed 12-6-05; 8:45 am]

BILLING CODE 4830-01-P